POSTAL SERVICE

Sunshine Act Meetings

TIME AND DATE: Wednesday, April 16, 2025, at 11:00 a.m. EST.

PLACE: Washington, DC, at U.S. Postal Service Headquarters, 475 L'Enfant Plaza SW.

STATUS: Closed.

MATTERS TO BE CONSIDERED: Compensation and Governance Committee of the Board of Governors of the United States Postal Service.

The Committee will consider the below matters.

1. Administrative Matters.

2. Executive Session.

3. Personnel Matters.

General Counsel Certification: The General Counsel of the United States Postal Service has certified that the meeting may be closed under the Government in the Sunshine Act.

CONTACT PERSON FOR MORE INFORMATION: Lucy C. Trout, Acting Secretary of the Board of Governors, U.S. Postal Service, 475 L'Enfant Plaza SW, Washington, DC 20260-1000. Telephone: (202) 268-4800.

Lucy C. Trout,
Acting Secretary.

[FR Doc. 2025-06301 Filed 4-9-25; 11:15 am]

BILLING CODE 7710-12-P